DEPARTMENT OF COMMERCE

National Oceanic and Atmospheric Administration

[FY2009-FY2014]

National Centers for Coastal Ocean Science Human Dimensions Strategic Plan

AGENCY: National Centers for Coastal Ocean Science (NCCOS), National Oceanic and Atmospheric Administration (NOAA), Department of Commerce (DOC).

ACTION: Notice of availability of the NCCOS Human Dimensions Strategic Plan (FY2009-FY2014) and responses to public comments.

SUMMARY: NOAA publishes this notice to announce the availability of the NCCOS Human Dimensions Strategic Plan (FY2009-FY2014) and provide responses to public comments requested through a Federal Register Notice (Notice of availability and solicitation of public comments on the National Centers for Coastal Ocean Science Draft Human Dimensions Strategic Plan (FY2008-FY2013), 72 FR 7418-7419 (Feb. 15, 2007)).

DATES: The NCCOS Human Dimensions Strategic Plan is effective FY2009-FY2014.

ADDRESSES: The NCCOS Human Dimensions Strategic Plan (FY2009-FY2014) is available electronically at http://coastalscience.noaa.gov/human/strategy/NCCOSHDPlan.pdf. Hard copies of the plan may be obtained by sending a request to nccos.hd@noaa.gov.

FOR FURTHER INFORMATION CONTACT: Marybeth Bauer, PhD, by e-mail at nccos.hd@noaa.gov (preferred) or mail at NOAA National Ocean Service, National Centers for Coastal Ocean Science, 1305 East-West Highway, NOS HQTR Route N/SCI, Silver Spring, MD 20910.

SUPPLEMENTARY INFORMATION: The mission of NCCOS is to provide coastal managers and other decisionmakers with scientific information and tools needed to balance society's environmental, social, and economic goals in mitigating and adapting to ecosystem stressors such as climate change, extreme natural events, pollution, invasive species, and resource use. Humans are integral to ecosystems, and the human dimensions of ecosystems are an integral focus of the science needed to achieve this mission. Understanding the impact of humans on the ocean, the impacts of the ocean on humans, and the human aspects of ocean governance provides the scientific basis for ensuring ocean health and quality of life for this and future generations.

Marine science and policy institutions in the United States and worldwide recognize that a deeper understanding of the human dimensions of ecosystems—human causes, consequences, and responses to ecosystem stress—is needed to foster improved support for coastal and ocean decisionmaking. Examples include the Joint Subcommittee on Ocean Science and Technology, Subcommittee on Integrated Management of Ocean Resources, United States Commission on Ocean Policy, Pew Oceans Commission, and NOAA's External Ecosystem Task Team.

The NCCOS Human Dimensions Strategic Plan (FY2009-FY2014) establishes goals and objectives for fostering improved support of coastal and ocean decisionmaking by integrating human dimensions into the NCCOS's science program. It provides the basis for subsequent development of an implementation plan specifying programmatic elements such as strategies, outcomes, partnerships, and fiscal and human resources needs.

Comments and Responses: On February 15, 2007, NCCOS published a notice of availability and solicitation of public comments on a Draft Human Dimensions Strategic Plan (Notice of availability and solicitation of public comments on the National Centers for Coastal Ocean Science Draft Human Dimensions Strategic Plan (FY2008-FY2013), 72 FR 7418-7419 (Feb. 15, 2007)). During the 30-day public comment period, NCCOS received the following comments from the City of Craig, Alaska; Consortium for Oceanographic Research and Education; Island Resources Foundation; New Jersey Marine Science Consortium; NOAA's National Marine Fisheries Service, Office of Science and Technology; NOAA's National Ocean Service, Coastal and Ocean Resource Economics Program; NOAA's Office of Oceanic and Atmospheric Research, Office of Weather and Air Quality and Climate Program Office; NOAA's Research Council; and University of Massachusetts-Amherst Human Dimensions of Marine and Coastal Ecosystems Program. In response to comments received, NCCOS revised the Draft Human Dimensions Strategic Plan as follows.

General Comments

Comment 1: Several commenters commended NCCOS on taking this first step toward integrating the human element into coastal management and the required supporting scientific efforts.

Response: NCCOS appreciates this encouragement and advocacy from its coastal science and management partners, and looks forward to working with them to implement human dimensions research priorities.

Comment 2: Several commenters stated that the document is too long and recommended eliminating redundancy.

Response: NCCOS considerably reduced the length of the document and eliminated redundancy. To accommodate diverse levels of interest, NCCOS formatted the plan to describe each strategic objective at four levels of detail: A title, summary statement, concise rationale, and discussion. The discussion sections provide justification and explanation of strategic objectives at a level of detail that NCCOS believes is critical to cultivate a workforce that understands, appreciates, and facilitates the mission value of human dimensions research.

Comment 3: Several commenters stated that the document includes excessive social science jargon.

Response: NCCOS minimized social science jargon. However, NCCOS included and defined key technical terms such as socioeconomic driver, ecosystem service, mitigation, non-market value, and resilience. In doing so, NCCOS is responsive to the finding of the Social Science Review Panel to NOAA's Science Advisory Board that developing social science capacity in NOAA is challenged by “a lack of formal understanding of what social science is and what its contributions can be, leading to an organizational culture that is not conducive to social science research.” By including and defining key technical terms, NCCOS aims to foster the human dimensions literacy and common language needed to develop an integral human dimensions focus within its science program.

Comment 5: Several commenters stated that the plan should include programmatic elements such as projects, timelines, fiscal and human resource needs, and deliverables.

Response: As explained in the “Future Directions” section of the “Overview,” NCCOS wishes to clarify that this plan provides the basis for a follow-up implementation plan specifying programmatic elements such as those recommended.

Comment 6: Several commenters recommended discussing specific programs, projects, or partnerships.

Response: NCCOS affirms that this level of detail is beyond the scope of this plan, which is intended to establish broad human dimensions research priorities critical to achieve NCCOS' mission.

Comment 7: Several commenters stated that the scope of work outlined in the plan is overly ambitious for its time frame and unrealistic given NOAA budgets.

Response: NCCOS wishes to clarify that this plan does not outline a scope of work. It is intended to provide high-level strategic guidance as a basis for programmatic development responsive to changing fiscal conditions, legislative requirements, and other constraints and opportunities.

Comment 8: One commenter recommended clarifying how this plan will change human behaviors.

Response: NCCOS revised Objective 1.2, “Human Causes and Socioeconomic Drivers of Ecosystem Stress,” to emphasize that “reducing stress on coastal systems generally requires accommodating or encouraging change in human behavioral patterns such as exurban development, agricultural practices, and resource use. Developing effective intervention strategies requires understanding behavioral patterns requiring remediation and their complex natural and socioeconomic drivers.” In addition, understanding the human impacts of changes in ecosystem services (as discussed in Objectives 1.3, “Societal Consequences of Policy and Management Options,” and 2.1, “Integrative Ecosystem Models and Decision Support Tools”) provides the impetus for behavioral change.

Comment 9: One commenter recommended clarifying how the plan captures the role of climate change in ecosystems.

Response: NCCOS emphasizes that the goals and objectives established in this plan cut across multiple stressors such as climate change, extreme natural events, pollution, invasive species, and resource use. The document discusses specific stressors in so far as needed to illustrate cross-cutting research needs.

Comment 10: One commenter recommended explaining the process used to develop the plan and including an appendix that lists contributors and their contact information. This commenter stated that the National Ocean Service Social Science Team should have been involved in development of the plan.

Response: NCCOS has amended the “Message from the Director” to explain that the plan was developed through an internal NCCOS process including content analysis of significant coastal and ocean science and management documents, vetted throughout NOAA, and substantively revised in response to public review and comments solicited through a Federal Register Notice. NCCOS relied upon the NOS Social Science Plan and subsequently requested comments from the National Ocean Service Social Science Team before finalizing the document. NCCOS has provided contact information for comments on the plan.

Comment 11: One commenter expressed concern that the objectives are loosely defined and thus allow flexibility in interpretation of what will be accomplished.

Response: NCCOS intentionally framed its human dimensions research goals and objectives in broad terms to enable flexibility in implementation as NCCOS priorities and capabilities change.

Comment 12: One commenter recommended that the document put greater emphasis on the need to evaluate tradeoffs inherent to ecosystem management.

Response: In the discussion of the “Human Dimensions of Ecosystems,” which has been moved from an appendix to the “Overview,” NCCOS emphasizes that evaluating tradeoffs is fundamental to coastal management. In addition, NCCOS reconceptualized Objective 1.1, retitled “Coastal Decisionmaking,” from (in the draft) the need for stakeholder assessment to (in the final document) the need for decision support tools guiding stakeholder participation in decisionmaking confronting challenges such as tradeoffs.

Comment 13: One commenter noted that the document does not aim to facilitate improved methods for cost-benefit analysis such as new tools to identify, describe, and quantify benefits; improvements on cost assessments; and non-economic analyses that can enhance traditional approaches.

Response: NCCOS revised Objective 1.3, “Societal Consequences of Policy and Management Option,” to recommend economic impact analysis as an approach to help decisionmakers anticipate the cononomic consequences of alternative courses of action. As revised, this objective states that methods for putting a dollar figure on the costs and benefits of alternative management actions require improvement, e.g., accounting for the true costs and benefits of alternative actions for non-market values.

Comment 14: One commenter noted that a systems approach is implicit in the document and recommended making it more explicit.

Response: NCCOS is responsive to criticism that the plan is overly theoretical. In an effort to balance simultaneous recommendations for elaboration and elimination of theoretical discussion, NCCOS responded to this recommendation by adding the following text and associated references to the “Purpose” section of the “Overview”: “Expanding human dimensions research will enhance NCCOS' ecosystem science and foster improved support for coastal and ocean decisionmaking. As early as 1935, ecologists cautioned that limiting analysis to environmental systems is neither scientifically sound nor practically useful (Tansley, 1935). As with any system, understanding an ecosystem requires understanding complex interactions among system components. An ecosystem is defined by interactions between human and environmental systems (elaborated below). Recognizing these interactions, ecology is increasingly adopting a systems approach focusing on coupled social-ecological systems (also called human-environmental systems) (e.g., Collins et al., 2007; Colding et al., 2000; Berkes et al., 1998). Expanding NCCOS' scientific focus from interactions within environmental systems to interactions between couple social-ecological systems will foster holistic ecosystem understanding.”

Comment 15: One commenter stated that as this plan moves to other areas of NOAA (particularly related to fisheries and habitat management), NCCOS needs to ensure that its implementation is properly vetted to ensure fair and balanced use in the regulatory process.

Response: NCCOS addressed this comment in Objective 1.1, “Coastal Decisionmaking.” This objective seeks to inform and facilitate decision processes that combine scientific analysis and broad-based stakeholder deliberation to elicit diverse societal values, establish clear objectives linking values to resource outcomes, develop measurable indicators, and examine tradeoffs. In addition, NCCOS notes that this plan has been vetted by public review through a Federal Register Notice (72 FR 7418-7419). Finally, NCCOS is part of NOAA and produces science that is used by other parts of NOAA in the context of managing multiple uses of coastal and ocean resources. In producing scientific information and facilitating its use, NCCOS makes every effort to ensure validity, fairness, and regulatory compliance.

Comments on the Summary

Comment 16: Several commenters recommended rewriting the “Summary.” Specifically, commenters recommended eliminating the list of NCCOS and NOAA strategic definitions/missions and summary of goals/objectives established in the plan, and including a statement of purpose in the beginning.

Response: NCCOS created an “Overview” section that begins with a statement of purpose, specifies future directions, summarizes key drivers, provides background on the human dimensions of ecosystems, defines human dimensions research, and lists the goals and objectives put forth in the plan. NCCOS believes that the list of goals and objectives is critical to provide an at-a-glance summary of the plan, and has incorporated this list into a considerably shortened “Summary” section. NCCOS moved the list of NCCOS and NOAA strategic definitions/missions to Appendix 2.

Comment 17: One commenter recommended including National Ocean Service strategic elements in the list of strategic definitions/missions.

Response: NCCOS added the National Ocean Service mission to this list, which was moved to Appendix 2.

Comments on the Overview

Comment 18: One commenter recommended including a comparative discussion of the terms “human dimensions” and “social science.”

Response: NCCOS added the following text to the “Human Dimensions Research” section of the “Overview”: The distinction between the terms `human dimensions' and `social science' often generates confusion. `Human dimensions' refers conceptually to the roles of humans in ecosystems and resource management. `Social science' denotes a subset of the disciplines useful for describing, explaining, and predicting these role.”

Comment 19: One commenter suggested giving greater emphasis to NCCOS's role in providing feedback to the greater scientific community on the information needs of coastal managers.

Response: NCCOS expanded its list of customers in the “National Centers for Coastal and Ocean Science” section to include the greater coastal and ocean scientific community.

Comment 20: One commenter stated that the discussion of NCCOS's fundamental strategy, the Integrated Assessment, “sounds like puffery” without empirical evidence of its value.

Response: NCCOS added a reference to an example Integrated Assessment, Integrated Assessment of Hypoxia in the Northern Gulf of Mexico (Committee on Environment and Natural Resources, 2000) to the “Integrated Assessments” section of the “Overview.”

Comment 21: One commenter questioned the use of a fifteen-year-old National Research Council framework for understanding the human dimensions of ecosystems.

Response: NCCOS believes that its adaptation of the National Research Council framework to conceptualize human dimensions of ecosystems (in terms of human causes, consequences, and responses to ecosystem stress) is round and useful. This model resonates with NCCOS scientists because of its simplicity and focus on stressors (an organizing feature of NCCOS' science program). NCCOS will continue to evaluate and develop its approach to conceptualizing the human dimensions of ecosystems and socio-ecological systems.

Comment 22: One commenter recommended a more targeted definition of human dimensions research.

Response: NCCOS believes that the plan itself embodies a targeted definition by providing numerous examples of human dimensions research topics and methods.

Comment 23: One commenter suggested mentioning that discussions with decisionmakers will influence NCCOS' delivery of services.

Response: NCCOS revised the “Future Directions” section of the “Overview” to emphasize that NCCOS' research agenda will be established through customer-informed strategies that identify complementary human dimensions and environmental research priorities. In addition, in the “National Centers for Coastal Ocean Science” section, NCCOS added a statement that “NOAA created NCCOS in 1999 to strengthen and integrate its coastal programs in ways that encourage strong external partnerships, increase and protect their integrity, and ensure they focus on NOAA's coastal ocean missions.”

Comment 24: One commenter recommended mentioning that this plan updates NCCOS' contribution to the (2005) National Ocean Service Social Science Plan.

Response: NCCOS amended the “Human Dimensions Research Drivers” section of the “Overview” to state that this plan represents the development of NCCOS' human dimensions vision since its contribution to the (2005) National Ocean Service Social Science Plan.

Comment 25: One commenter recommended providing an update on specific NCCOS projects proposed in the National Ocean Service Social Science Plan. This commenter also recommended discussing how this plan will be integrated into the National Ocean Service Social Science Plan, the NOAA Research Plan, and NOAA's Planning, Programming, Budgeting, and Execution System.

Response: NCCOS affirms that this level of detail is beyond the scope of the plan.

Comment 26: One commenter stated that the figure representing the diversity of disciplines integral to human dimensions research is misleading because it treats these diciplines as “equally impacting.”

Response: NCCOS believes that the figure clearly represents the diversity of disciplines integral to human dimensions research without making a statement regarding their relative importance.

Comment 27: One commenter stated that the discussion of NCCOS human dimensions accomplishments is defensive in tone. This commenter questioned the apparent historical emphasis on economics and recommended eliminating discussion of ongoing projects and other highlights.

Response: NCCOS wishes to acknowledge its accomplishments in providing human dimensions information critical to supporting coastal and ocean management. These include new capacities, key publications, ongoing projects, and other highlights. NCCOS does not agree that this section should be eliminated. In addition, NCCOS believes that this plan corrects any historical overemphasis on economics by establishing goals and objectives that draw on a wide diversity of mission-critical human dimensions disciplines.

Comment 28: Several commenters recommended including NCCOS' work on the development of a human use/socioeconomic indicator for eutrophication in the discussion of NCCOS human dimensions accomplishments.

Response: NCCOS regrets the omission of this important work from the draft plan, and has added the requested information in the “NCCOS Human Dimensions Research” section of the “Overview.”

Comment 29: One commenter recommended including NCCOS' socioeconomic monitoring work in southeast Florida in the discussion of NCCOS human dimensions accomplishments.

Response: NCCOS regrets the omission of this important work from the draft plan, and has added the requested information in the “NCCOS Human Dimensions Research” section of the “Overview.”

Comment 30: Several commenters recommended eliminating a reference (to Bergen and Carr, 2003), stating that the article does not provide a balanced description of the Channel Islands marine reserves network planning process.

Response: NCCOS does not support the commenters' judgment that the article cited is not balanced. However, in the course of responding to Comment 12, NCCOS eliminated this reference.

Comment 31: One commenter expressed concern that the plan contains “historical overtones of a need to understand an environment being destroyed by humans (e.g., stressors).” This commenter stated that such an approach downplays the management opportunities provided by human dimensions understanding.

Response: NCCOS believes that the plan provides many examples of management opportunities facilitated by human dimensions understanding. To ensure that these opportunities are sufficiently emphasized, NCCOS added the following text to the “Purpose” section of the “Overview”: “* * * Human dimensions understanding enhances coastal decisionmaking and its scientific support. The plan provides many examples. It begins by highlighting the effectiveness of coastal decisionmaking that integrates ecosystem understanding with meaningful stakeholder engagement. Social science offers techniques and approaches, based on an understanding of human and organizational behavior, that help decisionmakers work with diverse stakeholders to define and achieve management priorities in the face of challenges such as conflicting and changing societal values, multi-agency authorities, and scientific uncertainty.” NCCOS disagrees that the concept of stressors is inappropriate.

Comments on Objective 1.1

Comment 32: One commenter recommended including economic value as a distinct type of value.

Response: NCCOS eliminated the referenced discussion of values to preserve space in the process of revising Objective 1.1, re-titled “Coastal Decisionmaking,” as described in Comment 12. Instead, the document defines values by providing examples in the “Human Dimensions of Ecosystems” section of the “Overview”, e.g., security from natural disasters, health, good social relations, and freedom to pursue personal and cultural interests (Millennium Ecosystem Assessment, 2005).

Comment 33: One commenter recommended acknowledging that stakeholder values change over time.

Response: NCCOS revised Objective 1.1, re-title “Coastal Decisionmaking,” to acknowledge that decisionmakers are challenged by conflicting and changing societal values.

Comment 34: One commenter noted the need to assess preferences for specific management options in addition to values.

Response: NCCOS revised Objective 1.1, re-titled “Coastal Decisionmaking,” to acknowledge the importance of assessing stakeholders' preferences for specific management options.

Comment 35: One commenter recommended discussing the relationships among values, norms, user expectations, satisfaction, intentions to behave, management preferences, and attitudes.

Response: NCCOS amended the “Human Dimensions of Ecosystems” section of the “Introduction” to state that “stakeholders' values influence their attitudes, intentions, management preferences, satisfaction levels, and norms for behavior. Values differ among individuals, but can be studied at the group level. For example, groups engaging in similar activities at similar locations and rates of participation, and using similar equipment can be expected to share values. Stakeholder values is an important topic of human dimensions research, enabling understanding of: (1) How coastal resource conditions and management decisions are likely to be perceived by different groups; (2) how differing value systems interact to affect coastal resource management planning and effectiveness; and (3) interactions among changing value systems, management decision processes and outcomes, and resource conditions (e.g., Dietz et al., 2005).”

Comments on Objective 1.2

Comment 36: One commenter stated that discussion of Objective 1.2 is vague.

Response: NCCOS agrees that this objective is vague and partly redundant with other objectives established in the plan. For these reasons, NCCOS eliminated the objective and incorporated references cited into other objectives as appropriate.

Comment 37: One commenter recommended eliminating mention of the National Ocean Economics Program, stating that the program “does not represent good social science” and will “seriously compromise the integrity” of the plan.

Response: NCCOS eliminated this objective for reasons explained in the response to Comment 36.

Comments on Objective 1.4

Comment 38: One commenter stated that Objective 1.4 recommends specific research projects whereas the other objectives are more general.

Response: NCCOS does not agree that Objective 1.4 recommends specific research projects. This objective recommends building on NCCOS' success documenting and utilizing traditional and local ecological knowledge to enhance coastal and ocean science.

Comments on Objective 1.5

Comment 39: Several commenters noted that Objective 1.5 is unclear.

Response: NCCOS substantively revised this objective (now reordered as Objective 1.7) to enhance clarity and reduce length. As revised, a large portion of the objective is incorporated into the “Overview” (in “Human Dimensions of Ecosystems”) and Objective 1.1 (“Coastal Decisionmaking”). The second section, “Ethical Questions Raised by the Implementation and Use of Science,” has been considerably shortened.

Comment 40: One commenter noted that there is already a wealth of social science research regarding best practices for promoting community development in the context of environmental restoration. This commenter questioned whether social scientists participated in the Coastal Response Research Center workshop discussing this topic.

Response: In an effort to reduce the length of this objective, NCCOS eliminated discussion of specific conclusions from this workshop. However, NCCOS notes that social scientists were present at the workshop. These participants were aware of the wealth of social science research related to community development, and played an important role in introducing restoration practitioners to the topic.

Comments on Objective 1.6

Comment 41: One commenter stated that the distinction between organizations and institutions (quoted from the International Human Dimensions Program) is “conceptually thin,” and that the examples provided in the definition are “less than eye-opening.” Another commenter stated that Objective 1.6 is not understandable to a non-social scientist.

Response: NCCOS addressed these comments by replacing this quote with a less technical definition of institutions and referring the reader to additional sources for a more sophisticated discussion. NCCOS notes that this objective has been reordered to Objective 1.5.

Comment 42: Several commenters recommended mentioning the need for institutionalized social science data collection and sharing.

Response: NCCOS revised this objective to state that the institutionalization of social science data collection, storage, management, and mining is a fundamental problem for incorporating human dimensions consideration into coastal decisionmaking.

Comments on Objective 2.2

Comment 43: One commenter questioned the emphasis on economics reflected in NOAA's External Ecosystem Task Team's summary of core social science capabilities needed to integrate human dimensions information into Integrated Ecosystem Assessments.

Response: NCCOS eliminated this summary to reduce the length of the document. NCCOS notes that the External Ecosystem Task Team's summary stands on its own (i.e., independently of NCCOS' views) as a description of the Team's vision.

Comment 44: One commenter raised the question whether Integrated Ecosystem Assessments are to be revisited to determine their success in predicting consequences of alternative management actions.

Response: NCCOS revised this objective to clarify that “Integrated Ecosystem Assessments are iteratively developed and revisited. Subsequent assessments evaluate past success in predicting the consequences of alternative management strategies as well as implementing previously identified research needs.”

Comments on Objective 3.1

Comment 45: One commenter stated that Goal 3 should focus on resilience to ecosystem stressors (rather than hazards) because the focus on hazards excludes ecosystem stressors.

Response: NCCOS wishes to clarify that a focus on hazards does not exclude ecosystem stressors. Rather, the potential for any ecosystem stressor is a hazard. However, NCCOS agrees that the objective is too narrowly focused on the impacts of disasters. It also does not adequately emphasize the need to help coastal decisionmakers anticipate the consequences of ecosystem stress in relation to alternative intervention strategies. In response to these deficiencies, this objective has been reconceptualized to develop Objective 1.3, “Societal Consequences of Policy and Management Options.”

Comment 46: One commenter stated that Objective 3.1 ignores over fifty years of research on disasters and espouses myths such as the notion that disasters result in social disruption and conflict. Another commenter stated that Objective 3.1 should mention spouse battery (an example of social disruption and conflict) as a consequence of disasters.

Response: NCCOS notes that these comments are contradictory. One highlights social disruption caused by coastal disasters, while another denies it. In responding to Comment 45, NCCOS eliminated this discussion and captured key points in Objective 1.3, “Societal Consequences of Policy and Management Options.”

Comment 47: One commenter requested that NCCOS specify key factors considered in risk and vulnerability assessments and whether NCCOS will consider environmental or human impacts or both.

Response: NCCOS notes that the draft provides a list of key components of risk and vulnerability assessments. NCCOS revised the text to clarify that environmental and human impacts will both be considered.

Comment 48: One commenter stressed the importance of noting the unique requirements of small islands regarding vulnerability and resilience.

Response: NCCOS amended the discussion of Goal 3, “Promote Ecosystem Resilience,” to state that the vulnerability of small island communities is heightened by factors such as the infeasibility of migrating out of danger zones and extreme land values.

Comments on Objective 3.2

Comment 49: One commenter noted that Objective 3.2 ignores changes that occurred to the risk communication process as a result of cell phones, the internet, and cable television.

Response: NCCOS amended this objective to explain that development of communication messages and strategies should take into consideration changes to the risk communication process as result of modern technology such as cell phones and the internet.

Comment 50: One commenter stated that the relationship between an audience's belief in risk information and its level of trust in the communicating agency is “old hat.”

Response: NCCOS is committed to developing the capacity of its workforce to understand, appreciate, and facilitate the mission value of human dimensions research. NCCOS believes that this commitment requires fostering an understanding of key concepts and methods that are familiar to social scientists, but new to many natural scientists. This commitment is responsive to the finding of the Social Science Review Panel to NOAA's Science Advisory Board that developing social science capacity in NOAA is challenged by “a lack of formal understanding of what social science is and what its contributions can be, leading to an organizational culture that is not conducive to social science research.”

Comments on Objective 3.3

Comment 51: One commenter noted that local, regional, and national agencies rarely have the finances for risk communication research and typically lack the understanding that they need it.

Response: Through this plan, NCCOS aims to foster understanding of the need for risk communication research to develop scientific products and tools that foster public understanding of risks, trust in the communicating agency, and risk-protective behavior. As explained in this objective, NCCOS will work with coastal managers and other customers to develop and test products, and facilitate their use in decisionmaking, to achieve these ends.

Comment 52: One commenter raised the question of how effective communication is defined.

Response: NCCOS points out that the existing text defines effective risk communication as communication that fosters public understanding and trust, and prompts at-risk populations to respond appropriately to mitigate and adapt to undesirable environmental, sociocultural, and economic consequences of ecosystem stress.

Comments on Objective 4.1

Comment 53: One commenter recommended clarifying the role of NCCOS' cooperative research institutes in implementing this plan.

Response: NCCOS revised this objective to state that “providing human dimensions understanding critical to support coastal decisionmaking will require retooling of many activities across NCCOS' component research centers, laboratories, and partnerships with cooperating institutions such as NCCOS' coral reef research institutes.” NCCOS similarly amended the “Future Directions” section of the “Overview” to specify that a follow-up implementation plan will specify program- and project-level actions and other programmatic elements “to develop an integral human dimensions research focus in NCCOS—including its component research centers, laboratories, and partnerships with cooperating institutions such as NCCOS' coral reef research institutes.”

Comment 54: One commenter noted that the workforce needed to support ecosystem science must be interdisciplinary.

Response: NCCOS agrees with this comment. This objective focuses on development of human dimensions capabilities that complement NCCOS' existing technical workforce, which is predominantly comprised of biological, physical, and ecological scientists.

Comments on Appendix 1

Comment 55: One commenter stated that the 2006 National Research Council report, Facing Hazards and Disasters, does not (as described in the draft) recommend “that future social science research treat hazards and disaster research interchangeably and view the five core topics of hazards and disaster research within a single overarching framework.”

Response: NCCOS points out that this is a direct quote from an Executive Summary of Facing Hazards and Disasters provided by the National Research Council Committee on Disaster Research in the Social Sciences: http://www.nap.edu/catalog/11671.html. However, NCCOS eliminated this quote in the process of reducing the length of the document.

Comment 56: One commenter recommended expanding the discussion of “Balancing Societal Objectives” and moving it to the front material of the document.

Response: As recommended, NCCOS moved a substantive part of this section to a discussion of the “Human Dimensions of Ecosystems” in the “Overview.”

Comments on Appendix 2

Comment 57: One commenter noted that the entry for the 2006 National Research Council report, Facing Hazards and Disasters, mistakenly includes information related to a 2005 National Science and Technology Council report, Grand Challenges for Disaster Reduction.

Response: NCCOS regrets this mistake and eliminated the misplaced information from the entry for the 2006 National Research Council report, Facing Hazards and Disasters.

Comment 58: One commenter recommended duplicating the entry for the Harmful Algal Bloom and Hypoxia Research and Control Act in the table of drivers related to pollution (in addition to harmful algal blooms).

Response: As recommended, NCCOS included the Harmful Algal Bloom and Hypoxia Research and Control Act in the table of drivers related to pollution.

Comments on Appendix 3

Comment 59: Several commenters requested inclusion of specific additional references.

Response: NCCOS included suggested references where appropriate. NCCOS notes that this document is not intended to provide an exhaustive literature review.

Gary C. Matlock,
Director, National Centers for Coastal Ocean Science.

[FR Doc. 07-5111 Filed 10-16-07; 8:45 am]

BILLING CODE 3510-JE-M